DEPARTMENT OF JUSTICE

Drug Enforcement Administration

Horst G. Blume, M.D.; Revocation of Registration

On July 26, 2002, the Deputy Assistant Administrator, Office of Division Control, Drug Enforcement Administration (DEA), issued an Order to Show Cause by certified mail to Horst G. Blume, M.D. (Dr. Blume), notifying him of an opportunity to show cause as to why the DEA should not revoke his DEA Certificate of Registration, AB4035146, pursuant to 21 U.S.C. 824(a)(3), and deny any pending applications for renewal of such registration, pursuant to 21 U.S.C. 823(f), on the ground that, effective August 1, 2001, Dr. Blume voluntarily surrendered his medical license to the Iowa Board of Medical Examiners. The Order also notified Dr. Blume that if a request for hearing is not filed within 30 days of receipt, his right to a hearing would be deemed waived.

The Order to Show Cause was sent to Dr. Blume at his DEA registered premises in Sioux City, Iowa. DEA received a signed receipt indicating that the Order to Show Cause was received on behalf of Dr. Blume at that location. since that time, DEA has not received a request for hearing or any other reply form Dr. Blume or anyone purporting to represent him in this matter.

Therefore, the Deputy Administrator, finding that (1) 30 days have passed since the receipt of the Order to Show Cause, and (2) no request for a hearing has been received concludes that Dr. Blume is deemed to have waived his right to a hearing. Following a complete review of the investigative file in this matter, the Deputy Administrator now enters his final order without a hearing pursuant to 21 CFR 1301.4 (d) and (e), and 1301.46.

The Deputy Administrator finds that Dr. Blume currently possesses DEA Certificate of Registration AB4035146, issued to him in Iowa. On July 11, 2001, Dr. Blume submitted a letter to the Iowa Board of Medical Examiners in which he voluntarily surrendered his Iowa medical license and agreed to no longer practice medicine in Iowa, effective August 1, 2001. The letter also stated that Dr. Blume understood that he was not eligible to reapply for medical license in the State of Iowa. The license surrender by Dr. Blume resolved the disciplinary action initiated by the Iowa Board of Medical Examiners. The investigative file contains no evidence that Dr. Blume's medical license has been reinstated in Iowa.

The DEA does not have the statutory authority under the Controlled Substances Act to issue or to maintain a registration if the applicant or registrant is without state authority to handle controlled substances in the state in which he or she practices. See 21 U.S.C. 823(f) and 824(a)(3). This prerequisite has been consistently upheld in prior DEA cases. See Willard W. Leiske, M.D., 67 FR 35,588 (2002); Graham Travers Schuler, M.D., 65 FR 50,570 (2000); Romeo J. Perez, M.D., 62 FR 16, 193 (1997); Demetris A. Green, M.D., 61 FR 60728 (1996); Dominick A. Ricci, M.D., 58 FR 51104 (1993).

In the instant case, the Deputy Administrator finds that there is evidence demonstrating that Dr. Blume is not authorized to practice medicine in Iowa, and therefore, the Deputy Administrator infers that Dr. Blume is also not authorized to handle controlled substances in Iowa, the state in which he holds his DEA Certificate of Registration.

Accordingly, the Deputy Administrator of the Drug Enforcement Administration pursuant to the authority vested in him by 21 U.S.C. 823 and 824 and 28 CFR 0.100(b) and 0.104, hereby orders that the DEA Certificate of Registration AB40335146, previously issued to Horst G. Blume, M.D., be, and is hereby is, revoked. The Deputy Administrator further orders that any pending applications for renewal or modification of said registration be, and hereby are, denied. This order is effective December 30, 2002.

Dated: November 20, 2002.
John B. Brown, III,
Deputy Administrator.

[FR Doc. 02-30257 Filed 11-26-02; 8:45 am]

BILLING CODE 4410-09-M